DEPARTMENT OF TRANSPORTATION

Federal Aviation Administration

14 CFR Part 39

[Docket No. FAA-2021-1177; Project Identifier AD-2021-00570-T]

RIN 2120-AA64

Airworthiness Directives; The Boeing Company Airplanes

AGENCY: Federal Aviation Administration (FAA), DOT.

ACTION: Notice of proposed rulemaking (NPRM).

SUMMARY: The FAA proposes to adopt a new airworthiness directive (AD) for certain The Boeing Company Model 767-200, -300, -300F, and -400ER airplanes. This proposed AD was prompted by reports of burned Boeing Material Specification (BMS) 8-39 urethane foam, which is a material with fire-retardant properties that deteriorate with age. This proposed AD would require replacing certain BMS 8-39 foam pads with Nomex felt in certain areas, removing certain BMS 8-39 foam pads in a certain area (which includes a general visual inspection to find BMS 8-39 foam pads), and inspecting the corner seals to determine if the corner seals were replaced, and replacing affected corner seals. This proposed AD would also prohibit the installation of BMS 8-39 urethane foam seal in certain locations. The FAA is proposing this AD to address the unsafe condition on these products.

DATES: The FAA must receive comments on this proposed AD by March 17, 2022.

ADDRESSES: You may send comments, using the procedures found in 14 CFR 11.43 and 11.45, by any of the following methods:

• Federal eRulemaking Portal: Go to https://www.regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For service information identified in this NPRM, contact Boeing Commercial Airplanes, Attention: Contractual & Data Services (C&DS), 2600 Westminster Blvd., MC 110-SK57, Seal Beach, CA 90740-5600; telephone 562-797-1717; internet https://www.myboeingfleet.com. You may view this service information at the FAA, Airworthiness Products Section, Operational Safety Branch, 2200 South 216th St., Des Moines, WA. For information on the availability of this material at the FAA, call 206-231-3195. It is also available at https://www.regulations.gov by searching for and locating Docket No. FAA-2021-1177.

Examining the AD Docket

You may examine the AD docket at https://www.regulations.gov by searching for and locating Docket No. FAA-2021-1177; or in person at Docket Operations between 9 a.m. and 5 p.m., Monday through Friday, except Federal holidays. The AD docket contains this NPRM, any comments received, and other information. The street address for Docket Operations is listed above.

FOR FURTHER INFORMATION CONTACT: Julie Linn, Aerospace Engineer, Cabin Safety and Environmental Systems Section, FAA, Seattle ACO Branch, 2200 South 216th St., Des Moines, WA 98198; phone and fax: 206-231-3584; email: Julie.Linn@faa.gov.

SUPPLEMENTARY INFORMATION:

Comments Invited

The FAA invites you to send any written relevant data, views, or arguments about this proposal. Send your comments to an address listed under ADDRESSES. Include “Docket No. FAA-2021-1177; Project Identifier AD-2021-00570-T” at the beginning of your comments. The most helpful comments reference a specific portion of the proposal, explain the reason for any recommended change, and include supporting data. The FAA will consider all comments received by the closing date and may amend this proposal because of those comments.

Except for Confidential Business Information (CBI) as described in the following paragraph, and other information as described in 14 CFR 11.35, the FAA will post all comments received, without change, to https://www.regulations.gov, including any personal information you provide. The agency will also post a report summarizing each substantive verbal contact received about this NPRM.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Julie Linn, Aerospace Engineer, Cabin Safety and Environmental Systems Section, FAA, Seattle ACO Branch, 2200 South 216th St., Des Moines, WA 98198; phone and fax: 206-231-3584; email: Julie.Linn@faa.gov. Any commentary that the FAA receives which is not specifically designated as CBI will be placed in the public docket for this rulemaking.

Background

The FAA has received reports of burned BMS 8-39 urethane foam, a material with fire-retardant properties. The fire-retardant properties of BMS 8-39 urethane foam deteriorate with age. The degraded material can be an unacceptable fire fuel source for a fire if exposed to an ignition source. The degraded material in the seals will compromise Halon and smoke retention and fire blocking, which could result in the inability to keep sufficient Halon concentrations within the cargo compartment or contain fire or smoke. These conditions, if not addressed, could result in penetration of smoke or fire into the flight compartment, leading to possible loss of control of the airplane.

Related AD

The FAA issued AD 2013-11-04, Amendment 39-17464 (78 FR 33193, June 4, 2013) (AD 2013-11-04), for certain The Boeing Company Model 747-100, 747-100B, 747-100B SUD, 747-200B, 747-200F, 747-300, 747-400, 747-400D, 747-400F, 747SR, and 747SP series airplanes; Model 767-200, -300, -300F, and -400ER series airplanes; and Model 777-200, -200LR, -300, and -300ER series airplanes. For Model 767-200, -300, -300F, and -400ER series airplanes, AD 2013-11-04 requires replacing certain seals made of BMS 8-39 urethane foam in accordance with Boeing Special Attention Service Bulletin 767-25-0381, Revision 1, dated September 17, 2012, which the Director of the Federal Register approved for incorporation by reference as of July 9, 2013 (78 FR 33193, June 4, 2013). AD 2013-11-04 resulted from operator or in-service reports of burned BMS 8-39 urethane foam, and a report from the airplane manufacturer indicating that airplanes were assembled, throughout various areas of the airplane (including flight deck and cargo compartments), with seals made of BMS 8-39 urethane foam. The FAA issued AD 2013-11-04 to address the failure of urethane seals to maintain sufficient halon concentrations in the cargo compartments to extinguish or contain fire or smoke, and to prevent penetration of fire or smoke in areas of the airplane that are difficult to access for fire and smoke detection or suppression.

This NPRM proposes to require additional actions for certain Model 767-200, -300, -300F, and -400ER series airplanes, in accordance with Boeing Special Attention Service Bulletin 767-25-0381, Revision 4, dated April 26, 2021. This NPRM does not propose to supersede AD 2013-11-04. Rather, the FAA has determined that a stand-alone AD would be more appropriate because the additional work applies only to Model 767-200, -300, -300F, and -400ER series airplanes having certain configurations.

Actions Since AD 2013-11-04 Was Issued

Since AD 2013-11-04 was issued, the FAA has determined that replacement or removal of certain BMS 8-39 urethane foam pads and an inspection of certain corner seals is necessary for certain Model 767-200, -300, -300F, and -400ER airplanes that are in AD 2013-11-04. This proposed AD would only require the actions for Model 767-200, -300, -300F, and -400ER series airplanes, identified as Group 1, Configuration 4; Group 2, 3, 12, and 13, Configuration 3; Group 14, Configuration 1 and 3; Group 15, Configuration 2; and Group 17, Configuration 3 and 4, in Boeing Special Attention Service Bulletin 767-25-0381, Revision 4, dated April 26, 2021. This proposed AD addresses the unsafe condition only for these airplanes as identified in paragraph (c) of this proposed AD. Therefore, this proposed AD would not supersede AD 2013-11-04.

FAA's Determination

The FAA is issuing this NPRM after determining that the unsafe condition described previously is likely to exist or develop on other products of the same type design.

Related Service Information Under 1 CFR Part 51

The FAA reviewed Boeing Special Attention Service Bulletin 767-25-0381, Revision 4, dated April 26, 2021. This service information specifies, among other actions, procedures for replacing certain BMS 8-39 foam pads with Nomex felt in the forward and aft crown area, removing certain BMS 8-39 foam pads in the crown area (which includes a general visual inspection to find BMS 8-39 foam pads) for certain airplanes, inspecting the corner seals to determine if the corner seals were replaced, and replacing affected corner seals. The required actions depend on requirements for use and location of the BMS 8-39 urethane foam in the airplane. This service information is reasonably available because the interested parties have access to it through their normal course of business or by the means identified in ADDRESSES.

Proposed AD Requirements in This NPRM

This proposed AD would require accomplishing the actions specified in the service information already. This proposed AD would also prohibit the installation of affected parts. For information on the procedures, see this service information at https://www.regulations.gov by searching for and locating Docket No. FAA-2021-1177.

Costs of Compliance

The FAA estimates that this AD, if adopted as proposed, would affect 396 airplanes of U.S. registry. The FAA estimates the following costs to comply with this proposed AD:

Estimated Costs
Action | Labor cost | Parts cost | Cost per product | Cost on U.S. operators
Inspection (1 airplane) | 33 work-hours × $85 per hour = $2,805 | $0 | $2,805 | $2,805
Replacement of foam pad with Nomex felt (361 airplanes) | 29 work-hours × $85 per hour = $2,465 | Negligible * | 2,465 | 889,865
Removal (34 airplanes) | 29 work-hours × $85 per hour = $2,465 | $0 | 2,465 | 83,810
* Parts are Nomex felt, adhesive, and tapes. There are no kits for this required action.

The FAA estimates the following costs to do any necessary replacements that would be required based on the results of the proposed inspection. The agency has no way of determining the number of aircraft that might need this replacement:

On-Condition Costs
Action | Labor cost | Parts cost | Cost per product
Replacement of corner seals | 1 work-hour × $85 per hour = $85 | Up to $3,848 | Up to $3,933.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

The Boeing Company: Docket No. FAA-2021-1177; Project Identifier AD-2021-00570-T.

(a) Comments Due Date

The FAA must receive comments on this airworthiness directive (AD) by March 17, 2022.

(b) Affected ADs

None.

(c) Applicability

This AD applies to The Boeing Company Model 767-200, -300, -300F, and -400ER series airplanes, certificated in any category, identified as Group 1, Configuration 4; Group 2, 3, 12, and 13, Configuration 3; Group 14, Configuration 1 and 3; Group 15, Configuration 2; and Group 17, Configuration 3 and 4; in Boeing Special Attention Service Bulletin 767-25-0381, Revision 4, dated April 26, 2021.

(d) Subject

Air Transport Association (ATA) of America Code 25, Equipment/furnishings.

(e) Unsafe Condition

This AD was prompted by reports of burned Boeing Material Specification (BMS) 8-39 urethane foam, and a report from the airplane manufacturer that airplanes were assembled with seals throughout various areas of the airplane (including flight deck and cargo compartments) made of BMS 8-39 urethane foam, a material with fire-retardant properties that deteriorate with age. The FAA is issuing this AD to address degraded BMS 8-39 urethane foam used in seals, which may fail to maintain sufficient halon concentrations in the cargo compartments to extinguish or contain fire or smoke, and may result in penetration of smoke or fire into the flight compartment, leading to possible loss of control of the airplane.

(f) Compliance

Comply with this AD within the compliance times specified, unless already done.

(g) Required Actions

Within 72 months after the effective date of this AD, do the applicable actions specified in paragraph (g)(1), (2), (3), or (4) of this AD in accordance with the Accomplishment Instructions of Boeing Special Attention Service Bulletin 767-25-0381, Revision 4, dated April 26, 2021.

(1) For Group 1, Configuration 4, airplanes; and Group 2, 3, 12, and 13, Configuration 3, airplanes: Replace BMS 8-39 foam pads in the forward and aft crown area with Nomex felt.

(2) For Group 14, Configuration 1 and 3, airplanes; and Group 15, Configuration 2, airplanes: Remove BMS 8-39 foam pads in the crown area.

(3) For Group 17, Configuration 3, airplanes: Replace BMS 8-39 foam pads in the forward and aft crown area with Nomex felt, inspect the corner seals to determine if the corner seals were replaced and if any corner seals were not replaced, within 72 months after the effective date of this AD, replace affected corner seals.

(4) For Group 17, Configuration 4, airplanes: Inspect the corner seals to determine if the corner seals were replaced and if any corner seals were not replaced, within 72 months after the effective date of this AD, replace affected corner seals.

(h) Parts Installation Prohibition

As of the effective date of this AD, no person may install a BMS 8-39 urethane foam seal on any airplane in any location identified in Boeing Special Attention Service Bulletin 767-25-0381, Revision 4, dated April 26, 2021.

(i) Alternative Methods of Compliance (AMOCs)

(1) The Manager, Seattle ACO Branch, FAA, has the authority to approve AMOCs for this AD, if requested using the procedures found in 14 CFR 39.19. In accordance with 14 CFR 39.19, send your request to your principal inspector or responsible Flight Standards Office, as appropriate. If sending information directly to the manager of the certification office, send it to the attention of the person identified in paragraph (j) of this AD. Information may be emailed to: 9-ANM-Seattle-ACO-AMOC-Requests@faa.gov.

(2) Before using any approved AMOC, notify your appropriate principal inspector, or lacking a principal inspector, the manager of the responsible Flight Standards Office.

(3) An AMOC that provides an acceptable level of safety may be used for any repair, modification, or alteration required by this AD if it is approved by The Boeing Company Organization Designation Authorization (ODA) that has been authorized by the Manager, Seattle ACO Branch, FAA, to make those findings. To be approved, the repair method, modification deviation, or alteration deviation must meet the certification basis of the airplane, and the approval must specifically refer to this AD.

(j) Related Information

(1) For more information about this AD, contact Julie Linn, Aerospace Engineer, Cabin Safety and Environmental Systems Section, FAA, Seattle ACO Branch, 2200 South 216th St., Des Moines, WA 98198; phone and fax: 206-231-3584; email: Julie.Linn@faa.gov.

(2) For service information identified in this AD, contact Boeing Commercial Airplanes, Attention: Contractual & Data Services (C&DS), 2600 Westminster Blvd., MC 110-SK57, Seal Beach, CA 90740-5600; telephone 562-797-1717; internet https://www.myboeingfleet.com. You may view this referenced service information at the FAA, Airworthiness Products Section, Operational Safety Branch, 2200 South 216th St., Des Moines, WA. For information on the availability of this material at the FAA, call 206-231-3195.

Issued on January 4, 2022.
Lance T. Gant,
Director, Compliance & Airworthiness Division, Aircraft Certification Service.

[FR Doc. 2022-01856 Filed 1-28-22; 8:45 am]

BILLING CODE 4910-13-P